DEPARTMENT OF HEALTH AND HUMAN SERVICES

Substance Abuse and Mental Health Services Administration

Center for Substance Abuse Treatment; Notice of Meeting

Pursuant to Public Law 92-463, notice is hereby given that the Substance Abuse and Mental Health Services Administration's (SAMHSA) Center for Substance Abuse Treatment (CSAT) National Advisory Council (NAC) will meet on August 24, 2016, 9:00 a.m.-5:00 p.m. (EDT) and will include a session that is closed to the public.

The open session of the meeting will be held from 9:00 a.m.-4:00 p.m. and will include consideration of minutes from the SAMHSA CSAT NAC meeting of February 24, 2016, the Director's report, discussions of SAMHSA's role regarding treatment of mental illness, substance use disorders, and a budget update.

The closed meeting will include the review of grant applications, which contain budget information, including the description of how an agency prices its services, information on proposed business relationships and subcontracts. Grant applications also contain personal information and contact information on agency principles. Since the closed meeting will include discussion and evaluation of grant applications reviewed by Initial Review Groups and involve an examination of confidential financial and business information as well as personal information concerning the applicants, it will be closed to the public from 4:05 p.m. to 5:00 p.m. as determined by the Principal Deputy SAMHSA Administrator, in accordance with Title 5 U.S.C. 552b(c)(4) and (6) and Title 5 U.S.C. App. 2, Section 10(d).

The meeting will be held at the SAMHSA 5600 Fishers Lane, Conference Room 5 E29, Rockville, MD 20857. Attendance by the public will be limited to space available and will be limited to the open sessions of the meeting. Interested persons may present data, information, or views, orally or in writing, on issues pending before the Council. Written submissions should be forwarded to the contact person on or before August 15, 2016. Oral presentations from the public will be scheduled at the conclusion of the meeting. Individuals interested in making oral presentations are encouraged to notify the contact person on or before August 15, 2016. Five minutes will be allotted for each presentation.

The open meeting session may be accessed via telephone. To attend on site, obtain the call-in number and access code, submit written or brief oral comments, or request special accommodations for persons with disabilities, please register on-line at http://nac.samhsa.gov/Registration/meetingsRegistration.aspx, or communicate with the CSAT national Advisory Council Designated Federal Officer; Tracy Goss (see contact information below).

Meeting information and a roster of Council members may be obtained by accessing the SAMHSA Committee Web site at http://www.samhsa.gov/about-us/advisory-councils/csat-national-advisory-council or by contacting the CSAT National Advisory Council Designated Federal Officer; Tracy Goss (see contact information below).

Council Name: SAMHSA's Center for Substance Abuse Treatment, National Advisory Council.

Date/Time/Type: August 24, 2016, 9:00 a.m.-4:00 p.m. EDT, OPEN; August 24, 2016, 4:05 p.m.-5:00 p.m. EDT, CLOSED.

Place: SAMHSA, 5600 Fishers Lane, Rockville, Maryland 20857.

Contact: Tracy Goss, Designated Federal Officer, CSAT National Advisory Council, 5600 Fishers Lane, Rockville, Maryland 20857 (mail), Telephone: (240) 276-0759, Fax: (240) 276-2252, Email: tracy.goss@samhsa.hhs.gov.

Summer King,
Statistician, SAMHSA.

[FR Doc. 2016-17346 Filed 7-21-16; 8:45 am]

BILLING CODE 4162-20-P